CONSUMER PRODUCT SAFETY COMMISSION

[Docket No.CPSC-2009-0108]

Petition Requesting Component Part Testing for Spray Sampling, Multiple Stamping and Finished Component Part Testing

AGENCY: Consumer Product Safety Commission.

ACTION: Notice.

SUMMARY: The Consumer Product Safety Commission (Commission or CPSC) has received a petition requesting an amendment of the Commission's regulations at 16 CFR 1303 to authorize test procedures for “spray sampling,” “multiple stamping” and “finished component testing” and adopt an interpretative rule that clarifies that test procedures for “spray sampling,” “multiple stamping,” and “finished component testing” under the Consumer Product Safety Act (CPSA), 15 U.S.C. 2051 et seq. The Commission solicits written comments concerning the petition.

DATES: The Office of the Secretary must receive comments on the petition by February 26, 2010.

ADDRESSES: You may submit comments, identified by Docket No. CPSC-2009-0108, by any of the following methods:

Submit electronic comments in the following way:

Federal eRulemaking Portal: http://www.regulations.gov. Follow the instructions for submitting comments. To ensure timely processing of comments, the Commission is no longer accepting comments submitted by electronic mail (e-mail) except through http://www.regulations.gov.

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: Rocky Hammond, Office of the Secretary, Consumer Product Safety Commission, 4330 East West Highway, Bethesda, Maryland, 20814; telephone (301) 504-6833, e-mail rhammond@cpsc.gov.

SUPPLEMENTARY INFORMATION: Intertek Consumer Goods NA and the American Apparel & Footwear Association (petitioners) submitted a petition stating that section 14(a) of the CPSA, as amended by section 102(a) of the Consumer Product Safety Improvement Act (CPSIA), 15 U.S.C. 2063(a), requires that samples submitted for testing be “identical in all material respects to the product.” Petitioners assert that only completely assembled final products may be used for testing to support required third party testing and certification under the CPSIA, including the lead paint standard. Petitioners state that as a result of the final product testing for lead in paint, many samples must be destroyed—sometimes several hundred—to obtain a sufficient sample size. The petitioners assert that although composite testing of different paints is now allowed under certain conditions, there are numerous situations where there is only one small-area color on a product to test, or where even composite testing of up to three unlike paints, still requires the destruction of many product samples. To address these issues, petitioners request the use of alternative test procedures through amendment under the Commission's regulations at 16 CFR 1303 and through an interpretative rule under section 14(a) of the CPSA. Through spray sampling, multiple stamping, and finished component testing, petitioners assert that only one or a few samples or components would need to be destroyed, thus avoiding the unnecessary destruction of the final products themselves, without any reduction in the validity or reliability of the tests themselves.

Interested parties may obtain a copy of the petition by writing or calling the Office of the Secretary, Consumer Product Safety Commission, 4330 East West Highway, Bethesda, MD 20814; telephone (301) 504-6833. The petition is also available on the CPSC Web site at http://www.cpsc.gov.

Dated: December 17, 2009.
Todd A. Stevenson,
Secretary, Consumer Product Safety Commission.

[FR Doc. E9-30486 Filed 12-24-09; 8:45 am]

BILLING CODE 6355-01-P